FARM CREDIT SYSTEM INSURANCE CORPORATION

Farm Credit System Insurance Corporation Board; Regular Meeting

AGENCY: Farm Credit System Insurance Corporation.

ACTION: Notice of meeting.

SUMMARY: Notice is hereby given of the regular meeting of the Farm Credit System Insurance Corporation Board (Board).

Date and Time: The meeting of the Board will be held at the offices of the Farm Credit Administration in McLean, Virginia, on September 11, 2014, from 1:00 p.m. until such time as the Board concludes its business.

FOR FURTHER INFORMATION CONTACT: Dale L. Aultman, Secretary to the Farm Credit System Insurance Corporation Board, (703) 883-4009, TTY (703) 883-4056.

ADDRESSES: Farm Credit System Insurance Corporation, 1501 Farm Credit Drive, McLean, Virginia 22102. Submit attendance requests via email to VisitorRequest@FCA.gov. See SUPPLEMENTARY INFORMATION for further information about attendance requests.

SUPPLEMENTARY INFORMATION: Parts of this meeting of the Board will be open to the public (limited space available), and parts will be closed to the public. Please send an email to VisitorRequest@FCA.gov at least 24 hours before the meeting. In your email include: Name, postal address, entity you are representing (if applicable), and telephone number. You will receive an email confirmation from us. Please be prepared to show a photo identification when you arrive. If you need assistance for accessibility reasons, or if you have any questions, contact Dale L. Aultman, Secretary to the Farm Credit System Insurance Corporation Board, at (703) 883-4009. The matters to be considered at the meeting are:

Closed Session

• FCSIC Report on System Performance

Open Session

A. Approval of Minutes

• June 12, 2014

B. Business Reports

• FCSIC Quarterly Financial Reports

• Report on Insured and Other Obligations

• Quarterly Report on Annual Performance Plan

C. New Business

• Annual Performance Plan FY 2015-2016

• Proposed 2015 and 2016 Budgets

• Insurance Fund Progress Review and Setting of Premium Range Guidance for 2015

Dated: September 3, 2014.
Dale L. Aultman,
Secretary, Farm Credit System Insurance Corporation Board.

[FR Doc. 2014-21317 Filed 9-5-14; 8:45 am]

BILLING CODE 6710-01-P